DEPARTMENT OF HOUSING AND URBAN DEVELOPMENT

[Docket No. FR-4665-N-27]

Conference Call Meeting of the Manufactured Housing Consensus Committee

AGENCY: Office of the Assistant Secretary for Housing—Federal Housing Commissioner, HUD.

ACTION: Notice of Three Upcoming Meetings Via Conference Call.

SUMMARY: This notice sets forth the schedule and proposed agenda of three upcoming meetings of the Manufactured Housing Consensus Committee (the Committee) to be held via telephone conference. The meetings are a continuation of the Committee's meeting held by telephone conference on December 19, 2005, and recessed until the next meeting. These meetings are open to the general public, which may participate by following the instructions below.

DATES: The conference call meetings will be held on Wednesday, January 11; Thursday, January 12; and Monday, January 23, 2006, each meeting from 11 a.m. to 3 p.m. Eastern Standard Time.

ADDRESSES: Information concerning the conference call can be obtained from the Department's Consensus Committee Administering Organization, the National Fire Protection Association (NFPA). Interested parties can link onto NFPA's Web site for instructions concerning how to participate, and for contact information for the conference call from a HUD Web site, in the section marked “Business” “Manufactured Housing Consensus Committee Information”. The link can be found at: http://www.hud.gov/offices/hsg/sfh/mhs/mhshome.cfm.

Alternately, interested parties may contact Valaree Crawford of NFPA by phone at (617) 984-7507 (this is not a toll-free number) for conference call information.

FOR FURTHER INFORMATION CONTACT: William W. Matchneer III, Associate Deputy Assistant Secretary, Office of Regulatory Affairs and Manufactured Housing, Department of Housing and Urban Development, 451 7th Street SW., Washington, DC 20410, telephone (202) 708-6409 (this is not a toll-free number). Persons who have difficulty hearing or speaking may access this number via TTY by calling the toll-free Federal Information Relay Service at (800) 877-8339.

SUPPLEMENTARY INFORMATION: Notice of this meeting is provided in accordance with Sections 10(a) and (b) of the Federal Advisory Committee Act (5 U.S.C. App. 2) and 41 CFR 102-3.150. The Manufactured Housing Consensus Committee was established under Section 604(a)(3) of the National Manufactured Housing Construction and Safety Standards Act of 1974, as amended, 42 U.S.C. 5403(a)(3). The Committee is charged with providing recommendations to the Secretary to adopt, revise, and interpret manufactured home construction and safety standards and procedural and enforcement regulations, and with developing and recommending proposed model installation standards to the Secretary.

The purpose of these conference call meetings is to permit the Committee, at its request, to review and make further recommendations to the Secretary regarding proposed changes to the proposed Model Manufactured Home Installation Standards, and when that discussion is complete, to proposed changes to Title 24, Code of Federal Regulations, Part 3282 401 through 418 (Subpart I—Consumer Complaint Handling and Remedial Actions). The exceptional circumstances providing less than 15 calendar days notice of the meeting are that it is necessary to have this meeting on this date, which is a continuation of its December 19, 2005 meeting called to discuss these matters, to permit the Committee to continue its consideration and take action regarding the foregoing matters in a timely manner.

Tentative Agenda

A. Roll Call.

B. Welcome and Opening remarks.

C. Full Committee meeting and take actions on proposed changes to the proposed Model Manufactured Home Installation Standards.

D. Full Committee meeting to take actions on proposed changes to 24 CFR Part 3282, Subpart I.

E. Adjournment.

Dated: December 28, 2005.
Brian D. Montomery,
Assistant Secretary for Housing—Federal Housing Commissioner

[FR Doc. E5-8254 Filed 1-3-06; 8:45 am]

BILLING CODE 4210-27-P